DEPARTMENT OF DEFENSE

Department of the Army, U.S. Army Corps of Engineers

Notice of Availability of the Draft Missouri River Recovery Management Plan and Environmental Impact Statement

AGENCY: Department of the Army, U.S. Army Corps of Engineers, DoD.

ACTION: Notice.

SUMMARY: The Kansas City and Omaha Districts of the U.S. Army Corps of Engineers (USACE), in cooperation with the U.S. Fish and Wildlife Service (USFWS), have developed the Missouri River Recovery Management Plan and Environmental Impact Statement (MRRMP-EIS). This document is a programmatic assessment of (1) major federal actions necessary to avoid a finding of jeopardy to the pallid sturgeon (Scaphirhynchus albus), interior least tern (Sterna antillarum athalassos), and the Northern Great Plains piping plover (Charadrius melodus) caused by operation of the Missouri River Mainstem and Kansas River Reservoir System and operation and maintenance of the Missouri River Bank Stabilization and Navigation Project (BSNP) in accordance with the Endangered Species Act (ESA) of 1973, as amended; and (2) the Missouri River BSNP fish and wildlife mitigation plan described in the 2003 Record of Decision (ROD) and authorized by the Water Resources Development Acts (WRDA) of 1986, 1999, and 2007.

DATES: Submit written comments on the draft EIS on or before February 24, 2017.

ADDRESSES: Send written comments to U.S. Army Corps of Engineers, Omaha District, ATTN: CENWO-PM-AC—MRRMP-EIS, 1616 Capitol Ave, Omaha, NE 68102; or provide comments via an online comment form (preferred method) at http://parkplanning.nps.gov/MRRMP.

FOR FURTHER INFORMATION CONTACT: The above address or email to cenwo-planning@usace.army.mil.

SUPPLEMENTARY INFORMATION: The USACE is issuing this notice pursuant to section 102(2)(c) of the National Environmental Policy Act of 1969 (NEPA), as amended (42 U.S.C. 4321 et seq.) and the Council on Environmental Quality (CEQ) regulations for implementing the procedural provisions of NEPA (43 CFR parts 1500 through 1508). This notice announces the availability of the draft MRRMP-EIS and begins the public comment period. The MRRMP-EIS, its appendices, and other supporting documents can be accessed at: www.moriverrecovery.org under the “Management Plan” tab on the Web site homepage.

Background Information. The Missouri River flows for 2,341 miles from Three Forks, Montana at the confluence of the Gallatin, Madison, and Jefferson Rivers in the Rocky Mountains through the states of Montana, North Dakota, South Dakota, Nebraska, Iowa, Kansas, and Missouri. It is the longest river in the United States. USACE operates the Missouri River Mainstem Reservoir System (System) consisting of six dams and reservoirs with a capacity to store 72.4 million acre-feet (MAF) of water, the largest reservoir system in North America. The System is operated as an integrated system for eight congressionally authorized purposes, which include flood control, navigation, irrigation, hydropower, water supply, water quality, recreation, and fish and wildlife. USACE operates the System in accordance with the policies and procedures prescribed in the Missouri River Mainstem Reservoir System Master Water Control Manual (Master Manual) (USACE, 2006a). The Kansas River Reservoir System includes the primary downstream flood control projects of Clinton, Perry, Tuttle Creek, Milford, Waconda (U.S. Bureau of Reclamation), Wilson, and Kanopolis. USACE also constructed and maintains the Missouri River Bank Stabilization and Navigation Project which provides a 9-foot deep navigation channel with a minimum width of 300 feet during the navigation season from April 1 to November 30 between Sioux City, Iowa, and the mouth near St. Louis, Missouri. The BSNP consists mainly of rock pile structures and revetments along the outsides of bends and transverse dikes along the insides of bends to force the river into a channel alignment that is self-maintaining or self-scouring.

During the course of the Master Manual Review and Update Study, developed from 1989 to 2004, USACE entered into formal consultation with USFWS on the effects of the operation of the Missouri River Mainstem Reservoir System, operation and maintenance of the BSNP, and operation of the Kansas River Reservoir System on the pallid sturgeon, interior least tern, and piping plover. A biological opinion (BiOp) was issued by USFWS in 2000 with a finding of jeopardy for all the listed species and a proposed Reasonable and Prudent Alternative (RPA) that was accepted by the USACE. In 2003, following additional consultation, USFWS provided an amended BiOp that determined the new proposed action by USACE would avoid jeopardizing the continued existence of the two listed bird species, but would continue to jeopardize the continued existence of the pallid sturgeon in the wild. The Missouri River Recovery Program (MRRP) was established in 2005 to implement the RPA requirements contained in the 2000 and 2003 BiOps and the BSNP fish and wildlife mitigation plan.

A substantial amount of new knowledge about the species, their habitats, and management actions has been developed since the 2003 Amended BiOp was completed. The Independent Scientific Advisory Panel (ISAP), established by the Missouri River Recovery Implementation Committee (MRRIC), issued a report in 2011 that recommended development of an overarching adaptive management (AM) plan that would anticipate implementation of combined flow management actions and mechanical habitat construction. They recommended an AM plan should be used to guide future management actions, monitoring, research, and assessment. The ISAP report also recommended basing the AM plan on an effects analysis, which would precede the development of the AM plan and incorporate new knowledge about the species accrued since the 2003 Amended BiOp. Since the 2011 report, the first phase of the effects analysis has been completed and documented for pallid sturgeon, interior least tern, piping plover, and associated habitat analyses.

The purpose of this draft MRRMP-EIS is to develop a suite of actions that allows the USACE to meet its obligations under the Endangered Species Act while still operating its projects for the congressionally authorized purposes. Authorities used to meet this purpose may include existing USACE authorities related to Missouri River System operations for listed species and acquisition and development of land needed for creation of habitat for listed species provided by Section 601(a) of the Water Resources Development Act of 1986, as modified by Section 334(a) of WRDA 1999, and further modified by Section 3176 of WRDA 2007, although alternatives formulation was not limited to these authorities.

The draft MRRMP-EIS assesses the programmatic effects of alternatives for implementing the MRRP, which include actions necessary to avoid a finding of jeopardy to the federally-listed species and associated actions which comply with the BSNP mitigation plan during the implementation timeframe for this EIS. This EIS provides the necessary information for the public to fully evaluate a range of alternatives to best meet the purpose and need of the MRRMP-EIS and to provide thoughtful and meaningful comment for the Agency's consideration. Six alternatives were carried forward from the Effects Analysis results for detailed evaluation in the MRRMP-EIS (the no-action alternative and five action alternatives). The following management actions were included in all six of the alternatives:

—Mechanical construction of emergent sandbar habitat (ESH);

—Vegetation management, predator management, and human restriction measures on ESH;

—Pallid sturgeon propagation and augmentation;

—Pallid early life stage habitat construction downstream of Ponca, Nebraska;

—Habitat development and management of acquired lands; and

—Monitoring and evaluation of management actions.

However the actual scale and extent of mechanical ESH creation and pallid early life stage habitat construction would vary among the alternatives.

Under the no-action alternative, USACE would continue to implement the MRRP as it is currently. In addition to the actions common to all alternatives, the USACE would mechanically construct ESH at a rate of 107 acres per year in the Garrison and Gavins Point reaches and construct pallid early life stage habitat to achieve an average of 20 acres of shallow water habitat per river mile. The no-action alternative would also continue to implement the plenary spring pulse included in the Master Manual.

Alternative 2 represents the USFWS's interpretation of the management actions that could be ultimately implemented as part of the 2003 Amended BiOp RPA. In addition to the actions common to all alternatives, the USACE would mechanically construct ESH at a rate up to 3,546 acres per year in the Garrison, Fort Randall, Lewis and Clark Lake, and Gavins Point reaches and pallid early life stage habitat to achieve an average of 30 acres of shallow water habitat per river mile. Alternative 2 would also include a spring pallid flow release consisting of a bimodal pulse in March and May and a low summer flow.

Under Alternatives 3-6, the USACE would follow the processes and criteria in the AM plan (companion document to the MRRMP-EIS) that was developed based on the results of the Effects Analysis. The AM plan identifies the process and criteria to implement initial management actions, assess hypotheses, and introduce new management actions should they become necessary. Initial management actions include specific study efforts to fill data gaps in knowledge of the pallid sturgeon life cycle, creation of spawning habitat for pallid sturgeon to monitor effectiveness, and the construction of pallid early life stage habitat following the interception and rearing complex (IRC) concept identified in the Effects Analysis.

In addition to the actions common to Alternatives 3-6, Alternative 3 would include mechanical construction of ESH at an average rate of 391 acres per year when construction is needed in the Garrison, Fort Randall, and Gavins Point reaches. Alternative 3 would not implement the plenary spring pulse included in the Master Manual. However, as part of the AM plan the potential for a one-time spawning cue test release, if studies during the first 9-10 years do not provide a clear answer on whether a spawning cue is important, is included in Alternative 3.

In addition to the actions common to Alternatives 3-6, Alternative 4 would include mechanical construction of ESH at an average rate of 240 acres per year when construction is needed in the Garrison, Fort Randall, and Gavins Point reaches. Alternative 4 also includes implementation of a spring ESH creation release if System storage is at 42 MAF or greater on April 1, normal flows that could create 250 acres of ESH have not occurred in the previous four years, and downstream flow is below identified flood control constraints specific to this alternative. Alternative 4 also includes, as part of the AM plan, the potential for a one-time spawning cue release as described for Alternative 3.

In addition to the actions common to Alternatives 3-6, Alternative 5 would include mechanical construction of ESH at an average rate of 309 acres per year when construction is needed in the Garrison, Fort Randall, and Gavins Point reaches. Alternative 5 also includes implementation of a fall ESH creation release if System storage is at 54.5 MAF or greater on October 17, normal flows that could create 250 acres of ESH have not occurred in the previous four years, and downstream flow is below identified flood control constraints specific to this alternative. Alternative 5, also includes, as part of the AM plan, the potential for a one-time spawning cue release as described for Alternative 3.

In addition to the actions common to Alternatives 3-6, Alternative 6 would include mechanical construction of ESH at an average rate of 304 acres per year when construction is needed in the Garrison, Fort Randall, and Gavins Point reaches. Alternative 6 also includes implementation of a spawning cue release, attempted every 3 years, consisting of a bimodal pulse in March and May. These spawning cue releases would not be started or would be terminated whenever downstream flow is at identified flood control constraints specific to this alternative.

The draft EIS evaluates the potential effects on the human environment associated with each of the above alternatives. Resources and uses evaluated include: River infrastructure and hydrological processes; pallid sturgeon; piping plover and interior least tern; fish and wildlife habitat; other special status species; water quality; air quality; cultural resources; land use and ownership; commercial sand and gravel dredging; flood risk management and interior drainage; hydropower; irrigation; navigation; recreation; thermal power; water supply; wastewater facilities; tribal interests (other); human health and safety; environmental justice; ecosystem services; and Mississippi River resources.

Meetings. Six public meetings to share information and to allow the public to provide oral and written comments will be held from 5:00 p.m. to 8:45 p.m. on:

• Tuesday, February 7, 2017—Fort Peck Interpretive Center, Yellowstone Road, Fort Peck, Montana 59223.

• Wednesday, February 8, 2017—Bismarck State College, National Energy Center of Excellence, 1500 Edwards Ave., Bismarck, North Dakota 58506.

• Thursday, February 9, 2017—Ramkota Hotel and Conference Center, 920 W Sioux Avenue, Pierre, South Dakota 57501.

• Tuesday, February 14, 2017—Thompson Alumni Center, Bootstrapper Hall, 6705 Dodge Street, Omaha, Nebraska 68612.

• Wednesday, February 15, 2017—Hilton Kansas City Airport, Shawnee B, 8801 NW 112th Street, Kansas City, Missouri 64153.

• Thursday, February 16, 2017—Double Tree Inn by Hilton Hotel, Ballroom A & B, 16625 Swingley Ridge Road, Chesterfield, Missouri 63017.

Each public meeting will begin with an open house at 5:00 p.m. A formal presentation will be provided at 5:45 p.m. followed by a public hearing session. Several different methods of submitting comments will be available at each public meeting. The public meeting dates or locations may change based on inclement weather or exceptional circumstances. If the meeting date or location is changed, the USACE will issue a press release and post it on www.moriverrecovery.org to announce the updated meeting details.

Schedule. Public comments on the draft MRRMP-EIS must be received by February 24, 2017. The USACE will consider and respond to all comments received on the draft MRRMP-EIS when preparing the final MRRMP-EIS. The USACE expects to issue the final EIS in the spring of 2018, at which time a Notice of Availability will be published in the Federal Register. A Record of Decision is expected in the spring of 2018.

Special Assistance for Public Meeting. The meeting facilities are physically accessible to people with disabilities. People needing special assistance to attend and/or participate in the meetings should contact: U.S. Army Corps of Engineers, Omaha District, ATTN: CENWO-PM-AC, 1616 Capitol Ave., Omaha, NE 68102 or email cenwo-planning@usace.army.mil. To allow sufficient time to process special requests, please contact no later than one week before the public meeting.

Public Disclosure Statement. If you wish to comment, you may mail your comments as indicated under the ADDRESSES section of this notice. Before including your address, phone number, email address, or any other personal identifying information in your comment, you should be aware that your entire comment—including your personal identifying information—may be made available to the public at any time. While you can request us to withhold your personal identifying information from public review, we cannot guarantee that we will be able to do so.

Dated: December 8, 2016.
Mark Harberg,
Missouri River Recovery Program Manager, U.S. Army Corps of Engineers.

[FR Doc. 2016-30294 Filed 12-15-16; 8:45 am]

BILLING CODE 3720-58-P